DEPARTMENT OF ENERGY

Federal Energy Regulatory Commission

[Docket No. RP03-316-000]

East Tennessee Natural Gas Company; Notice of Annual Cashout Report

April 1, 2003.

Take notice that on March 28, 2003, East Tennessee Natural Gas Company (East Tennessee) tendered for filing its annual cashout report for the November 2001 through October 2002 period in accordance with Rate Schedules LMS-MA and LMS-PA.

East Tennessee states that the report reflects a cumulative net loss from cashout activity of $459,866 for the November 2001 through October 2002 reporting period. In accordance with its Rate Schedules LMS-MA and LMS-PA, East Tennessee will roll this loss forward into its next annual cashout report.

East Tennessee states that copies of the filing were mailed to all affected customers of East Tennessee and interested state commissions.

Any person desiring to be heard or to protest said filing should file a motion to intervene or a protest with the Federal Energy Regulatory Commission, 888 First Street, NE., Washington, DC 20426, in accordance with sections 385.314 or 385.211 of the Commission's Rules and Regulations. All such motions and protests must be filed on or before the comment date. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 8, 2003.

Magalie R. Salas,
Secretary.

[FR Doc. 03-8469 Filed 4-7-03; 8:45 am]

BILLING CODE 6717-01-P